DEPARTMENT OF COMMERCE

National Oceanic and Atmospheric Administration

RIN 0648-XD476

Stock Status Determination for Atlantic Highly Migratory Atlantic Sharpnose and Bonnethead Sharks

AGENCY: National Marine Fisheries Service (NMFS), National Oceanic and Atmospheric Administration (NOAA), Commerce.

ACTION: Notice.

SUMMARY: This action serves as a notice that NMFS, on behalf of the Secretary of Commerce (Secretary), has determined that Atlantic sharpnose sharks (Rhizoprinodon terraenovae) are split into two stocks (Atlantic and Gulf of Mexico), each with a status of “not overfished, no overfishing occurring,” and bonnethead sharks (Sphyrna tiburo) are split into two stocks (Atlantic and Gulf of Mexico), each with a status of “unknown.”

FOR FURTHER INFORMATION CONTACT: Karyl Brewster-Geisz or Guý DuBeck at 301-427-8503.

SUPPLEMENTARY INFORMATION: Atlantic sharpnose and bonnethead sharks are managed under the authority of the Magnuson-Stevens Fishery Conservation and Management Act. NMFS manages all shark species under the 2006 Consolidated Atlantic Highly Migratory Species Fishery Management Plan and its amendments.

Atlantic sharpnose and bonnethead sharks were both previously assessed in 2007 as part of the Southeast Data, Assessment, and Review (SEDAR) process. At that time, both species were determined to have the status of “not overfished, no overfishing occurring.” These species were most recently assessed again in 2013 as “standard” assessments as part of SEDAR 34. While “benchmark” assessments allow for major changes, standard assessments generally update previous benchmark assessments with additional years of data and allow for only minor changes. All documents and information regarding of the most recent assessment (SEDAR 34) and the 2007 assessment (SEDAR 13) can be found on the SEDAR Web page at http://www.sefsc.noaa.gov/sedar/.

On the first day of the face-to-face assessment workshop meeting in June 2013, the scientists determined that the genetic information clearly indicated both species should be split into a Gulf of Mexico stock and an Atlantic stock. However, because the assessments had been scheduled as standard assessments, the assessment process and timing would not allow the scientists to make this change. Making such a change would have required four benchmark assessments rather than two standard assessments. It would have also required additional changes to the format and structure of the data that had not been anticipated and allowed for in the overall SEDAR schedule. Based on a request from fishery managers to continue given that the previous assessments were over 5 years old and updated scientific advice was needed, the scientists agreed to continue with the standard assessment of both species as single stocks in order to provide management advice on the potential status of the stocks.

Regarding Atlantic sharpnose, there were 20 model runs for this species. Seventeen of the 18 model runs that considered the species to be a single stock found that the species as a single stock was not overfished and no overfishing was occurring (Base run: F2011/FMSY = 0.34, SSF2011/SSFMSY = 1.73). A sensitivity run that included only those indices that were decreasing found that the species as a single stock may be overfished with overfishing occurring (F2011/FMSY = 1.06, SSF2011/SSFMSY = 0.40). Additionally, the scientists at the 2013 assessment could use catch and indices of abundance data that were split between the two stocks because the scientists at the 2007 assessment had considered such a split and therefore had split overall catch data and indices of abundance between the Gulf of Mexico and Atlantic regions. This split in data allowed the scientists to conduct sensitivity analyses using the biology for each stock with the respective catch data and indices. The Atlantic sensitivity run found the stock was not overfished and no overfishing was occurring (F2011/FMSY = 0.23; SSF2011/SSFMSY = 2.07). The Gulf of Mexico sensitivity run also found the stock was not overfished and no overfishing was occurring (F2011/FMSY = 0.57; SSF2011/SSFMSY = 1.01). Considering the assessment as a whole, including the multiple sensitivity analyses, the scientists determined that the assessment provided a consistent picture of stock status, especially in terms of the stock not being overfished. Two of the three peer reviewers agreed with the results of Atlantic sharpnose shark assessment; the third reviewer was concerned about bias in the shrimp trawl data. Based on these results, NMFS has decided to split the Atlantic sharpnose shark species into two stocks—an Atlantic stock and a Gulf of Mexico stock—and determined that the status of both stocks is not overfished and no overfishing is occurring.

Regarding bonnethead sharks, there were 19 model runs for this species. Sixteen of the 19 model runs, including the base run, found that the species—as a single stock—was not overfished and no overfishing was occurring (Base run: F2011/FMSY = 0.50, SSF2011/SSFMSY = 1.27). The continuity run indicated that overfishing was occurring (F2011/FMSY = 1.01, SSF2011/SSFMSY = 1.37). A sensitivity run that looked at only decreasing indices indicated the species may be overfished (F2011/FMSY = 0.96, SSF2011/SSFMSY = 0.58). Two of the sensitivity runs attempted to examine the status of the Atlantic stock and the Gulf of Mexico stock. However, because the 2007 benchmark stock assessment for bonnethead sharks did not split the catch data and indices of abundance data between stocks, the 2013 assessment did not split the catch and indices of abundance data between stocks, which is different from what was done in the Atlantic sharpnose shark assessment. Thus, the sensitivity runs examining the Atlantic stock and the Gulf of Mexico stock used the respective biology for each stock but did not split the data or indices between the different stocks. Specifically, the Atlantic sensitivity analysis used the Atlantic stock biology with the combined Gulf of Mexico and Atlantic catch data and indices of abundance; the Gulf of Mexico sensitivity used the Gulf of Mexico stock biology with the combined Gulf of Mexico and Atlantic catch data and indices of abundance. The sensitivity run using the Atlantic biology for the single stock found the stock was overfished and overfishing was occurring (F2011/FMSY = 1.09; SSF2011/SSFMSY = 0.73). The sensitivity run use the Gulf of Mexico biology for the single stock found the stock was not overfished and no overfishing was occurring (F2011/FMSY = 0.45; SSF2011/SSFMSY = 1.48).

The assessment found that, when assessed as single stock, the status of bonnethead sharks was not overfished and no overfishing was occurring. The scientists stressed that there is strong evidence for two separate stocks and that using the biology corresponding to the Atlantic for the assessment for a single stock led to a different conclusion on stock status (i.e., the stock was overfished and overfishing was occurring). None of the peer reviewers agreed with the determination of bonnethead sharks for the species as a single stock. The reviewers all felt that the species should have been split into two different stocks and analyzed in a manner that is similar to what was done with Atlantic sharpnose sharks. As such, based on these results and the peer reviews, NMFS decided to split the bonnethead shark species into two stocks—an Atlantic stock and a Gulf of Mexico stock—and determined that the status of both stocks is unknown.

In the upcoming Amendment 6 to the 2006 Consolidated Highly Migratory Species Fishery Management Plan, NMFS will be considering implementing total allowable catches and commercial quotas for the non-blacknose SCS complexes in the Atlantic and Gulf of Mexico regions, which includes the sharpnose and bonnethead stocks, based on the results of the SEDAR 34 assessment. Pending such an Amendment, the separate Atlantic and Gulf of Mexico sharpnose and bonnethead shark stocks remain within the overall non-blacknose SCS management complex, with the quotas for the complex designated for this fishing year. Current regulations specify that “[i]nseason and/or annual quota transfers of regional quotas between regions may be conducted only for species or management groups where the species are the same between regions and the quota is split between regions for management purposes and not as a result of a stock assessment.” Although the non-blacknose SCS quota currently is split between regions for management purposes, transferring quota between the two regions would be inconsistent with accomplishing the objectives of the fishery management plan now that sharpnose and bonnethead have been split into separate stocks as a result of the stock assessment. Such a transfer would, essentially, disregard the scientific bases for splitting sharpnose and bonnethead sharks into two stocks, and there is no practicable way to analyze the impacts of and establish separate quotas for these stocks or the complex as a whole absent the amendment process. The next assessments for these two species are not yet scheduled but will include benchmark assessments for each stock.

Dated: September 2, 2014.
Emily H. Menashes,
Acting Director, Office of Sustainable Fisheries, National Marine Fisheries Service.

[FR Doc. 2014-21278 Filed 9-3-14; 11:15 am]

BILLING CODE 3510-22-P